OFFICE OF THE UNITED STATES TRADE REPRESENTATIVE

Andean Trade Preference Act (ATPA), as Amended: Notice Regarding the 2008 Annual Review

AGENCY: Office of the United States Trade Representative.

ACTION: Notice.

SUMMARY: With respect to the Annual Review under the ATPA, the Office of the United States Trade Representative (USTR) received no new petitions in August-September 2008 to review certain practices in a beneficiary developing country to determine whether such country is in compliance with the ATPA eligibility criteria. USTR received updates to two petitions that are currently under review and a request to withdraw a petition that was under review. This notice specifies the status of the petitions filed in prior years that have remained under review. This notice does not relate to the Bolivia-specific review initiated on October 1, 2008 (73 FR 57158).

FOR FURTHER INFORMATION CONTACT: Bennett M. Harman, Deputy Assistant U.S. Trade Representative for Latin America, at (202) 395-9446.

SUPPLEMENTARY INFORMATION: The ATPA (19 U.S.C. 3201 et seq.), as renewed and amended by the Andean Trade Promotion and Drug Eradication Act of 2002 (ATPDEA) in the Trade Act of 2002 (Pub. L. 107-210) and the Act to Extend the Andean Trade Preference Act (Pub. L. 110-436), provides trade benefits for eligible Andean countries. Pursuant to section 3103(d) of the ATPDEA, USTR promulgated regulations (15 CFR part 2016) (68 FR 43922) regarding the review of eligibility of countries for the benefits of the ATPA, as amended. The 2008 Annual ATPA Review is the fifth such review to be conducted pursuant to the ATPA regulations.

In a Federal Register notice dated August 14, 2008, USTR initiated the 2008 ATPA Annual Review and announced a deadline of September 15, 2008 for the filing of petitions (73 FR 47633). Chevron submitted information updating the petition it originally filed in 2004, which remains under review. USTR also received updated information from the U.S./Labor Education in the Americas Project (US/LEAP) concerning its petition related to worker rights in Ecuador, which has been under consideration since the 2003 ATPA review. The AFL-CIO filed a submission which indicated that it is no longer seeking a removal of ATPA benefits from Ecuador over worker rights issues. The Trade Policy Staff Committee (TPSC) is therefore terminating its review of the AFL-CIO petition filed in 2003.

Following is the list of all petitions from prior years that will remain under review through December 31, 2009, which is the period that the ATPA is in effect:

Ecuador Human Rights Watch.

Ecuador U.S./Labor Education in the Americas Project.

Ecuador Chevron Texaco.

Peru Princeton Dover.

Peru Duke Energy.

Carmen Suro-Bredie,
Chairman, Trade Policy Staff Committee.

[FR Doc. E8-26546 Filed 11-5-08; 8:45 am]

BILLING CODE 3190-W9-P